FEDERAL COMMUNICATIONS COMMISSION

47 CFR Part 20

[PS Docket No. 07-114; FCC 14-13]

Wireless E911 Location Accuracy Requirements

AGENCY: Federal Communications Commission.

ACTION: Extension of comment deadline.

SUMMARY: The Public Safety and Homeland Security Bureau extends the deadline for filing reply comments on the Third Further Notice of Proposed Rulemaking (Third FNPRM) which was published in the Federal Register on March 28, 2014. The extension will provide commenters with additional time to prepare reply comments in response to the Third FNPRM and initial comments filed in this docket.

DATES: The reply comment period for the proposed rules published at 79 FR 17819, March 28, 2014 is extended. Submit reply comments by July 14, 2014.

ADDRESSES: Submit comments to the Federal Communications Commission, 445 12th Street SW., Washington, DC 20554, identified by PS Docket No. 07-114. Comments may be submitted electronically through the Federal Communications Commission's Web site: http://fjallfoss.fcc.gov/ecfs2/. Parties wishing to file materials with a claim of confidentiality should follow the procedures set forth in § 0.459 of the Commission's rules. Confidential submissions may not be filed via ECFS but rather should be filed with the Secretary's Office following the procedures set forth in 47 CFR 0.459. Redacted versions of confidential submissions may be filed via ECFS.

FOR FURTHER INFORMATION CONTACT: Dana Zelman of the Policy and Licensing Division of the Public Safety and Homeland Security Bureau, (202) 418-0546 or dana.zelman@fcc.gov.

SUPPLEMENTARY INFORMATION: This is a summary of the Order in PS Docket No. 07-114, released on June 4, 2014, which extends the reply comment deadline established in the Third Further Notice of Proposed Rulemaking published under FCC No. 14-13 at 79 FR 17819, March 28, 2014. The full text of this document is available for public inspection during regular business hours in the FCC Reference Center, Room CY-A257, 445 12th Street SW., Washington, DC 20554, or online at— http://www.fcc.gov/document/proposes-new-indoor-requirements-and-revisions-existing-e911-rules.

Summary of Order

On February 20, 2014, the Commission adopted a Third Further Notice of Proposed Rulemaking (Third FNPRM) in this docket, seeking comment on proposed wireless E911 location accuracy requirements. The Third Further NPRM set deadlines for filing comments and reply comments of May 12, 2014 and June 11, 2014, respectively.

On May 29, 2014, CTIA—The Wireless Association (CTIA) filed a request to extend the reply comment deadline an additional 30 days, until July 14, 2014. CTIA states that an extension of time is warranted due to the complex issues presented by the Third NPRM and the large number of initial comments filed in this docket. The National Emergency Number Association, Competitive Carrier Association, and Texas 911 Entities filed letters in support of CTIA's request.

We grant the request for an extension of time. As set forth in Section 1.46 of the Commission's rules, the Commission's policy is that extensions of time for filing comments in rulemaking proceedings shall not be routinely granted. In this case, however, an extension of the reply comment period is warranted for the reasons identified by CTIA. Specifically, we find that extension of the reply comment deadline to July 14, 2014 is warranted to provide commenters with sufficient time to prepare reply comments that fully respond to the complex technical, economic, and policy issues raised in the Third FNPRM and comments filed thereafter.

Accordingly, it is ordered that, pursuant to Section 4(i) of the Communications Act of 1934, as amended, 47 U.S.C. 154(i), and Sections 0.191, 0.392, and 1.46 of the Commission's rules, 47 CFR 0.191, 0.392, and 1.46, the Motion for Extension of Time filed by CTIA is granted, and the deadline to file reply comments in this proceeding is extended to July 14, 2014.

Federal Communications Commission.
David G. Simpson,
Chief, Public Safety and Homeland Security Bureau.

[FR Doc. 2014-13533 Filed 6-9-14; 8:45 am]

BILLING CODE 6712-01-P